FEDERAL COMMUNICATIONS COMMISSION

47 CFR Part 73

[DA 03-370; MB Docket No. 03-36; RM-10431]

Radio Broadcasting Services; Norfolk, NE and Woodbine, IA

AGENCY: Federal Communications Commission.

ACTION: Proposed rule.

SUMMARY: This document requests comments on a petition for rulemaking filed by Harrison County Radio, requesting the allotment of Channel 293A to Woodbine, Iowa, as that community's first local aural transmission service. The proposal also requires the reclassification of Station KEXL, Channel 294C, Norfolk, Nebraska, to specify operation on Channel 294C0, pursuant to reclassification procedures adopted by the Commission. See Second Report and Order in MM Docket 98-93 (1998 Biennial Regulatory Review—Streamlining of RadioTechnical Rules in Parts 73 and 74 of the Commission's Rules), 65 FR 79773 (2000). An Order to Show Cause was issued to WJAG, Inc., licensee of Station KEXL (RM-10431). The Wodbine, Iowa, proposal requires a site restriction 4.3 kilometers (2.7 miles) west of the community at coordinates 41-44-03 NL and 95-45-14 WL.

DATES: Comments must be filed on or before March 31, 2003, and reply comments on or before April 15, 2003. Any counterproposal filed in this proceeding need only protect Station KEXL, Norfolk, Nebraska as a Class C0 allotment.

ADDRESSES: Secretary, Federal Communications Commission, Washington, DC 20554.

In addition to filing comments with the FCC, interested parties should serve the petitioner and Station KEXL, as follows: Russell G. Johnson, Harrison County Radio, 1240 Loomis Ave., Des Moines, IA 50315; WJAG, Inc., Radio Station KEXL, 309 Braasch Avenue, P.O. Box 789, Norfolk, NE 68701.

FOR FURTHER INFORMATION CONTACT: Nancy Joyner, Mass Media Bureau, (202) 418-2180.

SUPPLEMENTARY INFORMATION: This is a synopsis of the Commission's Notice of Proposed Rule Making, MB Docket No. 03-36, adopted February 5, 2003, and released February 7, 2003. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR §§ 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Iowa, is amended by adding Woodbine, Channel 293A.

3. Section 73.202(b), the Table of FM allotments under Nebraska, is amended by removing Channel 294C and by adding Channel 294C0 at Norfolk.

Federal Communications Commission.
John A. Karousos,
Assistant Chief, Audio Division, Media Bureau.

[FR Doc. 03-4363 Filed 2-24-03; 8:45 am]

BILLING CODE 6712-01-P